FEDERAL COMMUNICATIONS COMMISSION

47 CFR Part 54

[WC Docket No. 10-90; FCC 19-95, FCC 20-5; FR ID 72341]

Connect America Fund

AGENCY: Federal Communications Commission.

ACTION: Final rule; announcement of effective date.

SUMMARY: In this document, the Federal Communications Commission (Commission) announces that the Office of Management and Budget (OMB) has approved, for a period of three years, an information collection associated with the rules for the Connect America Fund contained in the Commission's Uniendo a Puerto Rico Fund and the Connect USVI Fund, FCC 19-95 and the 2020 Rural Digital Opportunity Fund Order, FCC 20-5. This document is consistent with the Uniendo a Puerto Rico Fund and the Connect USVI Fund Order and the 2020 Rural Digital Opportunity Fund Order, which stated that the Commission would publish a document in the Federal Register announcing the effective date of the revised information collection requirements.

DATES: The amendments to §§ 54.316(a)(7) and (b)(7), 54.1503, 54.1513, and 54.1514, published at 84 FR 59937, November 7, 2019, and § 54.316(a)(8), (b)(5), and (c)(1) published at 85 FR 13773, March 10, 2020, are effective February 22, 2022.

FOR FURTHER INFORMATION CONTACT: Jesse Jachman, Wireline Competition Bureau at (202) 418-7400. For additional information concerning the Paperwork Reduction Act information collection requirements contact Nicole Ongele at (202) 418-2991 or via email at Nicole.Ongele@fcc.gov.

SUPPLEMENTARY INFORMATION: The Commission submitted revised information collection requirements for review and approval by OMB, as required by the Paperwork Reduction Act (PRA) of 1995, on October 19, 2021. OMB approved the revised information collection requirements on January 5, 2022. The information collection requirements are contained in the Commission's Uniendo a Puerto Rico Fund and the Connect USVI Fund Order, FCC 19-95, published at 84 FR 59937, November 7, 2019 and the 2020 Rural Digital Opportunity Fund Order, FCC 20-5, published at 85 FR 13773, March 10, 2020. The OMB Control Number is 3060-1228. The Commission publishes this document as an announcement of the effective date of the rules published on November 7, 2019 and March 10, 2020. If you have any comments on the burden estimates listed in the following, or how the Commission can improve the collections and reduce any burdens caused thereby, please contact Nicole Ongele, Federal Communications Commission, 45 L Street NE, Washington, DC 20554. Please include the OMB Control Number, 3060-1228, in your correspondence. The Commission will also accept your comments via email at PRA@fcc.gov. To request materials in accessible formats for people with disabilities (Braille, large print, electronic files, audio format), send an email to fcc504@fcc.gov or call the Consumer and Governmental Affairs Bureau at (202) 418-0530.

Synopsis

As required by the Paperwork Reduction Act of 1995 (44 U.S.C. 3507), the Commission is notifying the public that it received OMB approval on January 5, 2022, for the amendments to 47 CFR 54.316(a)(7) and (b)(7), 54.1503, 54.1513 and 54.1514 published at 84 FR 59937, November 7, 2019 and 47 CFR 54.316(a)(8), (b)(5) and (c)(1) published at 85 FR 13773, March 10, 2020. Under 5 CFR part 1320, an agency may not conduct or sponsor a collection of information unless it displays a current, valid OMB Control Number. No person shall be subject to any penalty for failing to comply with a collection of information subject to the Paperwork Reduction Act that does not display a current, valid OMB Control Number. The OMB Control Number is 3060-1228. The foregoing notice is required by the Paperwork Reduction Act of 1995, Public Law 104-13, October 1, 1995, and 44 U.S.C. 3507.

The total annual reporting burdens and costs for the respondents are as follows:

OMB Control Number: 3060-1228.

OMB Approval Date: January 5, 2022.

OMB Expiration Date: January 31, 2025.

OMB Control Number: 3060-1228.

Title: Connect America Fund—High Cost Portal Filing.

Form Number: N/A.

Type of Review: Revision of a currently approved collection.

Respondents: Business or other for-profit, not-for-profit institutions.

Number of Respondents and Responses: 2,024 unique respondents; 4,644 responses.

Estimated Time per Response: 8 hours-60 hours.

Frequency of Response: On occasion, quarterly reporting requirements, annual reporting requirements, and recordkeeping requirement.

Obligation to Respond: Required to obtain or retain benefits. Statutory authority for this information collection is contained in 47 U.S.C. 151-154, 155, 201-206, 214, 218-220, 251, 252, 254, 256, 303(r), 332, 403, 405, 410, and 1302.

Total Annual Burden: 86,727 hours.

Total Annual Cost: No Cost.

Privacy Act Impact Assessment: No impact(s).

Nature and Extent of Confidentiality: Except for the middle-mile maps for Alaska Plan carriers, and the coverage maps and information for Uniendo a Puerto Rico Fund and Connect USVI Fund Stage 2 mobile support recipients, the Commission is not requesting respondents to submit confidential information to the Commission. The Commission notes that the Universal Service Administrative Company (USAC) must preserve the confidentiality of all data obtained from respondents and contributors to the universal service support program mechanism; must not use the data except for purposes of administering the universal service support program; and must not disclose data in company-specific form unless directed to do so by the Commission. Also, respondents may request materials or information submitted to the Commission or to the Administrator believed confidential to be withheld from public inspection under 47 CFR 0.459 of the FCC's rules.

Needs and Uses: Through several orders, the Commission has recently changed or modified reporting obligations for high-cost support. Pursuant to the following orders, this collection includes location reporting and related certification requirements of high-cost support recipients: Connect America Fund et al., Report and Order, Order and Order on Reconsideration, and Further Notice of Proposed Rulemaking, 31 FCC Rcd 3087 (2016) (2016 Rate-of-Return Order); Connect America Fund et al., Report and Order and Further Notice of Proposed Rulemaking, 31 FCC Rcd 5949 (2016) (Phase II Auction Order); Connect America Fund et al., Order, 31 FCC Rcd 12086 (2016) (ACS Phase II Order); Connect America Fund et al., Report and Order and Notice of Proposed Rulemaking, 29 FCC Rcd 876 (2014) (Rural Broadband Experiments Order); Connect America Fund et al., Report and Order, 29 FCC Rcd 15644 (2014) (Price Cap Order); Technology Transitions et al., Order et al., 29 FCC Rcd 1433 (2014) (Tech Transitions Order); Connect America Fund et al., Report and Order and Further Notice of Proposed Rulemaking, 31 FCC Rcd 10139 (2016) (Alaska Plan Order); Connect America Fund et al., Order, 32 FCC Rcd 968 (2017) (New York Auction Order); Connect America Fund et al., Report and Order, Further Notice of Proposed Rulemaking, and Order on Reconsideration, 33 FCC Rcd 11-893 (2018) (2018 Rate-of-Return Order); Uniendo a Puerto Rico and Connect USVI Fund et al., Report and Order and Order on Reconsideration, 34 FCC Rcd 9109 (2019) (PR-USVI Stage 2 Order); Rural Digital Opportunity Fund et al., Report and Order, 35 FCC Rcd 686 (2020) (2020 Rural Digital Opportunity Fund Order).

This information collection addresses the requirement that certain carriers with high-cost reporting obligations must file information about the locations to which they have deployed broadband service meeting applicable public interest requirements (location information). A web-based portal, the High-Cost Universal Broadband Portal (HUBB or portal), is used to accept this information. The Commission and USAC will use this information to monitor the deployment progress of reporting carriers and to verify the reporting carriers' claims of service at the reported locations. Such activities help the Commission ensure that support is being used as intended. In addition, because data filed in the HUBB is publicly accessible, the reporting helps ensure public accountability and transparency.

In the 2019 PR-USVI Stage 2 Order, the Commission created a competitive process to determine support recipients for the Commonwealth of Puerto Rico and the U.S. Virgin Islands. As a result, carriers receiving support in these areas are subject to specific public interest obligations related to speed, usage, latency, and price as well as certain deployment milestones. Specifically, the Commission imposed defined deployment obligations and associated HUBB reporting requirements (annual location reporting and build-out certifications) for all Uniendo a Puerto Rico Fund and Connect USVI Fund Stage 2 fixed support recipients as well as annual reporting and certification requirements for all Uniendo a Puerto Rico Fund and Connect USVI Fund Stage 2 mobile support recipients.

Uniendo a Puerto Rico Fund and Connect USVI Fund Stage 2 mobile support recipients will also file network coverage and other data as required by the Commission's orders. The Commission and USAC will use this information to monitor the deployment progress of mobile carriers and to verify that carriers meet the public interest obligations for 4G LTE and 5G mobile broadband and voice services in the Commonwealth of Puerto Rico and the U.S. Virgin Islands. Instead of filing in the HUBB portal, mobile support recipients will submit their reports electronically as part of a web form accessed via the Commission's Form 477 portal (477 Portal) and the Electronic Comment Filing System. This collection mechanism is being used to reduce the technological burden on the public and the Commission, as carriers and the public are familiar with both of these systems. The Commission's Wireline Competition Bureau will specify the filing process by which Stage 2 mobile support recipients must file their reports in the 477 Portal prior to the filing deadlines.

In the 2020 Rural Digital Opportunity Fund Order, the Commission adopted a support mechanism to provide funding through a competitive auction to connect rural homes and businesses to high-speed broadband networks. The Commission established specific public interest obligations and deployment milestones for all carriers receiving this support. Specifically, the Commission imposed defined deployment obligations and associated HUBB reporting requirements (annual location reporting and build-out certifications) for all support recipients.

The Commission therefore revises this information collection to increase the burdens associated with existing and new reporting requirements to account for additional carriers that will be subject to these requirements.

Federal Communications Commission.

Marlene Dortch,
Secretary.

[FR Doc. 2022-03647 Filed 2-18-22; 8:45 am]

BILLING CODE 6712-01-P